OFFICE OF PERSONNEL MANAGEMENT

2003 Nonforeign Area Cost-of-Living Allowance Survey Report: Alaska and Washington, DC, Areas

AGENCY: Office of Personnel Management.

ACTION: Notice.

SUMMARY: This notice publishes the “2003 Nonforeign Area Cost-of-Living Allowance Survey Report: Alaska and Washington, DC, Areas.” The Federal Government uses the results of these surveys to set cost-of-living allowance (COLA) rates for General Schedule, U.S. Postal Service, and certain other Federal employees in Alaska, Hawaii, Guam and the Commonwealth of the Northern Mariana Islands, Puerto Rico, and the U.S. Virgin Islands. This report contains the results of the COLA surveys that the Office of Personnel Management conducted in Alaska and the Washington, DC, area during the spring and summer of 2003.

DATES: Comments on this report must be received on or before July 12, 2004.

ADDRESSES: Send or deliver comments to Donald J. Winstead, Deputy Associate Director for Pay and Performance Policy, Strategic Human Resources Policy Division, Office of Personnel Management, Room 7H31, 1900 E Street NW., Washington, DC 20415-8200; fax (202) 606-4264; or e-mail: COLA@opm.gov.

FOR FURTHER INFORMATION CONTACT: Donald L. Paquin, (202) 606-2838; fax: (202) 606-4264; or e-mail: COLA@opm.gov.

SUPPLEMENTARY INFORMATION: Section 591.299 of title 5, Code of Federal Regulations, requires the Office of Personnel Management (OPM) to publish nonforeign area cost-of-living allowance (COLA) survey summary reports in the Federal Register. We are publishing the complete “2003 Nonforeign Area Cost-of-Living Allowance Survey Report: Alaska and Washington, DC, Areas“ with this notice. This report contains the results of the COLA surveys OPM conducted in Anchorage, Fairbanks, and Juneau, Alaska, and in the Washington, DC, area during the spring and summer of 2003.

Survey Results

Using an index scale with the Washington, DC, area living costs equal to 100, OPM computed index values of relative prices in the Anchorage, Fairbanks, Juneau, and the Rest of the State of Alaska COLA areas. Then OPM added an adjustment factor of 7.0 to the Anchorage price index and 9.0 to the Fairbanks, Juneau, and Rest of the State of Alaska price indexes and rounded the results to the nearest whole percentage point. The results show that the existing COLA rates for Anchorage, Fairbanks, and Juneau (25 percent) are above the levels indicated by the 2003 survey. However, pursuant to the settlement agreement in Caraballo, et al. v. United States, No. 1997-0027 (D.V.I.), August 17, 2000, OPM will not reduce COLA rates in any nonforeign area until the effective date of the final rule implementing the results of the Pacific surveys that are planned for 2004. OPM anticipates that the effective date of that final rule will be in mid-2005 or later. At that time, OPM will reduce any COLA rates where reductions are warranted but not by more than 1 percent per year, as prescribed in 5 CFR 591.228(c).

Office of Personnel Management.
Kay Coles James,
Director.

2003 Nonforeign Area Cost-of-Living Allowance Survey Report: Alaska and Washington, DC, Areas

Table of Contents

Executive Summary

1. Introduction

1.1 Report Objectives

2. Preparing for the Survey

2.1 COLA Advisory Committees

2.2 Pre-Survey Meetings

2.3 Survey Item Selection

2.3.1 Special Considerations

2.4 Outlet Selection

2.5 Geographic Coverage

3. Conducting the Survey

3.1 Pricing Period

3.2 Non-Housing Price Data Collection

3.2.1 Data Collection Teams

3.2.2 Data Collection Process

3.3 Housing (Rental) Price Data Collection

4. Analyzing the Results

4.1 Data Review

4.2 Special Price Computations

4.2.1 K-12 Private Education

4.2.2 Health Insurance

4.2.3 Water Utilities

4.2.4 Energy Utilities Model

4.2.5 Rental Data Hedonic Models

4.3 Averaging Prices by Item and Area

4.4 Computing Price Indexes

4.4.1 Geometric Means

4.4.2 Special Private Education Computations

4.5 Applying Consumer Expenditure Weights

4.6 Computing the Overall Price Index for Rest of the State of Alaska

5. Final Results

6. Post Survey Meetings

List of Appendices

Appendix 1: Publication in the Federal Register of Prior Survey Results: 1990- 1998

Appendix 2: Estimated DC Area Middle Income Annual Consumer Expenditures

Appendix 3: COLA Survey Items and Descriptions

Appendix 4: COLA Rental Survey Data Collection Elements

Appendix 5: Utility Usage and Calculations

Appendix 6: Hedonic Rental Data Equations and Results

Appendix 7: Final Living-Cost Results for Anchorage, Fairbanks, and Juneau, AK

Appendix 8: Final Living-Cost Results for the Rest of the State of Alaska

Executive Summary

The Government pays cost-of-living allowances (COLAs) to Federal employees in nonforeign areas in consideration of living costs significantly higher than those in the Washington, DC, area. The Office of Personnel Management (OPM) conducts living-cost surveys to set the COLA rates. The methodology for conducting these surveys is prescribed in regulation at subpart B of part 591 of title 5 of the Code of Federal Regulations.

This report provides the results of the COLA surveys that OPM conducted in the spring and summer of 2003 in Anchorage, Fairbanks, and Juneau, Alaska, and the Washington, DC, area. The report details OPM's comparison of living costs in these Alaska areas, as well as the Rest of the State of Alaska, with living costs in the Washington, DC, area.

For the surveys, OPM contacted about 900 outlets and collected approximately 4,600 prices on more than 250 items representing typical consumer purchases. OPM then combined the data using consumer expenditure information developed by the Bureau of Labor Statistics. The final results are a series of living-cost indexes, shown in Table 1, that compare living costs in the surveyed areas to those in the Washington, DC, area. The index for the DC area (not shown) is 100.00 because it is, by law, the reference area. The living-cost indexes shown in Table 1 include the adjustment factor prescribed at 5 CFR 591.227.

Table 1.—Final Living-Cost Comparison Indexes
Allowance Area | Index
Anchorage | 112.63
Fairbanks | 115.26
Juneau | 118.34
Rest of the State of Alaska | 134.80

1. Introduction

1.1 Report Objectives

This report provides the results of the 2003 (i.e., “Alaska”) nonforeign area cost-of-living allowance (COLA) surveys that the Office of Personnel Management (OPM) conducted in the spring and summer of 2003. (Appendix 1 lists prior survey reports and their publication dates.) In addition to providing these results, this report describes how OPM prepared for and conducted the survey and how it analyzed the results. The results show comparative living-cost differences between the Alaska areas, i.e., Anchorage, Fairbanks, Juneau, and the Rest of the State of Alaska, and the Washington, DC, area. By law, Washington, DC, is the base or “reference” area for the COLA program.

2. Preparing for the Survey

2.1 COLA Advisory Committees

Before the Alaska surveys, OPM established COLA Advisory Committees (CACs) in Anchorage, Fairbanks, and Juneau. The settlement of Caraballo, et al. v. United States, No. 1997-0027 (D.V.I.), August 17, 2000, provides for employee involvement in the administration of the COLA program, and in the previous two surveys under the COLA Partnership Pilot Project, OPM found it valuable to involve employee and agency representatives in planning and conducting the survey and reviewing the survey results.

Each CAC is composed of approximately 12 agency and employee representatives from the survey area and 2 representatives from OPM. The CACs' functions include:

—Advising and assisting OPM in planning COLA surveys;

—Providing or arranging for data collection observers during COLA surveys;

—Advising and assisting OPM in reviewing survey data;

—Advising OPM on its COLA program administration, including survey methodology;

—Assisting OPM in disseminating information to affected employees about the surveys and the COLA program; and

—Advising OPM on special situations or conditions, such as hurricanes and earthquakes, as they relate to OPM's authority to conduct interim surveys or implement some other change in response to conditions caused by a natural disaster or similar emergency.

2.2 Pre-Survey Meetings

To help OPM prepare for the COLA surveys, the CACs held 3-day meetings in Anchorage, Fairbanks, and Juneau. These were joint meetings of the CAC, Survey Implementation Committee (SIC), and Technical Advisory Committee (TAC). The SIC and the TAC were established pursuant to the Carballo settlement. The SIC advises and assists OPM in the implementation of the new COLA methodology to which the parties agreed. There are seven members on the SIC—five plaintiffs' representatives from the COLA areas and two OPM representatives. The TAC has three members, economists who have expertise in living-cost measurement. The TAC performs research for and advises the members of the SIC.

The CACs, SIC, and TAC reviewed the preliminary outlet and item that OPM had developed for the surveys. The committee members researched the outlets and availability and appropriateness of the items in each area and made recommendations to OPM concerning the survey. OPM incorporated these recommendations into its survey design.

OPM found the work of the CACs, SIC, and TAC in Alaska to be extremely helpful and informative. The SIC and TAC's knowledge of the Caraballo settlement, the new COLA methodology, and the economic concepts underlying that methodology combined with the CAC's knowledge of the local area, the popularity of items and outlets, and other information about the COLA area were invaluable in helping OPM plan the survey. These joint CAC, SIC, and TAC meetings were particularly important because, under the Caraballo settlement, the SIC and TAC dissolve after the first 3 years of COLA surveys.

2.3 Survey Item Selection

As described in Sections 2.1 and 2.2, OPM consulted with the CACs, SIC, and TAC as it selected survey items. OPM identified items to reflect a wide array of items consumers typically purchase. To determine what consumers purchase, OPM used the Bureau of Labor Statistics (BLS) 2000 Consumer Expenditure Survey (CES). OPM aggregated CES expenditures into the following nine major expenditure groups (MEGs):

—Food;

—Shelter and Utilities;

—Household Furnishings and Supplies;

—Apparel;

—Transportation;

—Medical;

—Recreation;

—Education and Communication;

—Miscellaneous;

OPM further subdivided each MEG into primary expenditure groups (PEGs). In all, there were 45 PEGs. For example, OPM subdivided Food into the following nine PEGs:

—Cereals and Bakery Products;

—Meats, Poultry, Fish, and Eggs;

—Dairy Products;

—Fresh Fruits and Vegetables;

—Processed Foods;

—Other Food at Home;

—Nonalcoholic Beverages;

—Food Away from Home;

—Alcoholic Beverages.

To select survey items, OPM chose a sufficient number of items to represent each PEG and reduce overall price index variability. To do this, OPM applied the following guidelines. Each survey item should be:

—Relatively important (i.e., represent a fairly large expenditure) within the PEG;

—Relatively easy to find in both COLA and DC areas;

—Relatively common, i.e., what people typically buy;

—Relatively stable over time, e.g., not a fad item; and

—Subject to similar supply and demand functions.

In all, OPM selected 269 non-housing items to survey. Appendix 2 shows how OPM organized the CES data into MEGs and PEGs, identifies the Detailed Expenditure Categories (DECs) for which OPM chose survey items, and shows estimated DC area middle income annual consumer expenditures for each DEC and higher level of aggregations.

Appendix 3 lists the non-housing items that OPM surveyed and their descriptions. Each of these items is specifically described with an exact brand, model, type, and size whenever practical. Thus, OPM priced exactly the same items or the same quality and quantity of items in both the COLA and DC areas. For example, OPM priced a 10.5-ounce can of Campbell's Vegetable Soup in both the COLA and DC areas because it is typical of canned soups and consumers commonly purchase it.

2.3.1 Special Considerations

Health Insurance: It was not practical to compare the prices of exactly the same quality and quantity of health benefits insurance between the COLA and Washington, DC, areas because the same array of plans are not offered in each area and a significant proportion of Federal employees in both the COLA and DC areas subscribe to plans that are not available nationwide. To compare the employee health benefit premium of these often highly different plans, OPM would have to adjust for differences in benefits and coverage. Research that the parties conducted prior to the Caraballo settlement indicated that this would not be feasible.

Therefore, OPM used the non-Postal Service employee's share of the Federal Employees Health Benefits premiums by plan for each plan offered in each area and obtained from OPM's Central Personnel Data File (CPDF) the number of Federal employees enrolled in each plan. As described in Section 4.2.2 below, OPM used these data to compute the average “price” of health benefits insurance for Federal employees in the COLA and DC areas.

Housing: For housing items, OPM surveyed rental rates for specific kinds or classes of housing and collected detailed information about each housing unit. OPM surveyed the following classes of housing:

—Four bedroom, single family unit, not to exceed 3200 square feet;

—Three bedroom, single family unit, not to exceed 2600 square feet;

—Two bedroom, single family unit, not to exceed 2200 square feet;

—Three bedroom apartment unit, not to exceed 2000 square feet;

—Two bedroom apartment unit, not to exceed 1800 square feet;

—One bedroom apartment unit, not to exceed 1400 square feet.

Appendix 4 lists the types of detailed information that OPM collected. OPM did not collect homeowner data, such as mortgage payments, maintenance expenses, or insurance. Under the Caraballo settlement, the parties agreed to adopt a rental equivalence approach similar to the one BLS uses for the Consumer Price Index. Rental equivalence compares the shelter value (rental value) of owned homes rather than total owner costs because the latter are influenced by the investment value of the home. (i.e., influenced by what homeowners hope to realize as a profit when they sell their homes). As a rule, living-cost surveys do not compare how consumers invest their money.

In the 2003 survey, OPM surveyed rents and used that as a surrogate for rental equivalence. In the coming year, OPM plans to conduct special research to obtain additional rent and rental equivalence information to determine whether the approach OPM is currently using is appropriate.

Although OPM surveyed rental rates for the same classes of housing in each area, the type, style, size, quality, and other characteristics of each unit varied within each area and between the COLA and DC areas. As described in Section 4.2.5, OPM used hedonic regression analyses to hold these characteristics constant between the COLA and Washington, DC, area to make rental price comparisons.

2.4 Outlet Selection

Just as it is important to select commonly-purchased items and survey the same items in both the DC area and COLA areas, it is important to select outlets frequented by consumers and find comparable outlets in both the COLA and DC areas. To identify comparable outlets, OPM categorized outlets by type (e.g., grocery store, convenience store, discount store, hardware store, auto dealer, and catalog outlet). For example, OPM surveyed grocery items at supermarkets in all areas because most people purchase their groceries at such stores and because supermarkets exist in nearly all areas. Selecting comparable outlets is particularly important because of the significant price variations that may occur between dissimilar outlets (e.g., comparing the price of milk at a supermarket with the price of milk at a convenience store).

OPM used the above classification criteria and existing data sources, including previous COLA surveys, phone books, and various business listings, to develop initial outlet lists for the survey. OPM provided these lists to the CACs, SIC, and TAC and consulted with them on outlet selection. The committees helped OPM refine the outlet lists and identify other/additional outlets where local consumers generally purchase the items that OPM planned to survey.

OPM also priced some items by catalog; and when it did, it priced the same items by catalog in the COLA areas and in DC areas for comparative purposes. To ensure consistent catalog pricing, OPM used only current catalogs for all catalog survey items. OPM priced 11 items by catalog in the Alaska and DC areas. All catalog prices included any charges for shipping and handling and all applicable taxes.

In all, OPM surveyed prices from approximately 850 outlets. In the COLA survey areas, described below, OPM attempted to survey three popular outlets of each type, to the extent practical. For some outlet types, such as local phone service, there were not three outlets, and in Fairbanks and Juneau, there sometimes were not sufficient number of businesses to find three outlets of each particular type. This was not generally a problem in Anchorage, however. In the Washington, DC, area, OPM attempted to survey nine popular outlets of each type, three in each of the DC survey areas, described in Table 3.

2.5 Geographic Coverage

Table 3 shows the Alaska COLA and DC survey area boundaries.

Table 3.—Survey and Data Collection Areas
COLA areas and reference areas | Survey area
Anchorage, AK | City of Anchorage.
Fairbanks, AK | Fairbanks/North Pole area.
Juneau, AK | Juneau/Mendenhall/Douglas area.
Washington, DC-DC | District of Columbia.
Washington, DC-MD | Montgomery County and Prince Georges County.
Washington, DC-VA | Arlington County, Fairfax County, Prince William County, City of Alexandria, City of Fairfax, City of Falls Church, City of Manassas, and City of Manassas Park.
Note: For selected items, such as snow skiing and air travel, these survey areas include additional geographic locations beyond these jurisdictions.

In Alaska, OPM collected non-housing prices in outlets throughout three major cities as described in Table 3. For certain items, such as skiing, OPM surveyed prices in areas beyond the cities shown in the table above. To collect housing (i.e., rental) data, OPM contracted with Delta-21 Resources, Incorporated, a research organization with expertise in housing and rental data collection. Delta-21 surveyed rental rates in locations within these cities. In selecting the locations and sample sizes within these cities, OPM used tables from the 2000 Census that showed the number of Federal employees and rental vacancies by zip code.

To collect data in the DC area, OPM divided the area into three survey areas as shown in Table 3. OPM collected non-housing prices in outlets throughout this area. As in Alaska, OPM surveyed certain items, including skiing, in areas beyond the counties and cities shown in Table 3. OPM also surveyed the cost of air travel from Ronald Reagan Washington National Airport, Washington Dulles International Airport, and Baltimore/Washington International Airport (BWI) and surveyed the price of a 5-mile taxi ride originating at these airports. Both Dulles and BWI are outside the counties and cities shown in Table 3. Nevertheless, DC area residents commonly use both airports.

Delta-21 surveyed rental rates throughout the DC area. As with the Alaska COLA areas, OPM used Census data to select specific locations and sample sizes within the DC area, and Delta collected data accordingly within these locations.

3. Conducting the Survey

3.1 Pricing Period

OPM collected data from early May through August 2003. OPM collected non-housing price data concurrently in the tree Alaska cities in May and collected the bulk of the DC area data in June and July. Delta-21 collected rental data sequentially in Juneau, Fairbanks, Anchorage, and in the Washington, DC, area beginning in early May and ending August 1, 2003.

3.2 Non-Housing Price Data Collection

3.2.1 Data Collection Teams

In both the COLA and Washington, DC, areas, OPM central office staff collected non-housing price data. In the COLA areas, data collection observers designated by the local CAC accompanied the OPM data collectors. Data collection observers were extremely helpful to OPM and the survey process by advising and assisting the data collectors in contacting outlets, matching items, and selecting substitutes. The observers also advised OPM on other living-cost and compensation issues relating to their areas. OPM did not use data collection observers in the Washington, DC, area, but OPM made the collected data available to the CACs.

3.2.2 Data Collection Process

The data collector/observer teams obtained most of the data by visiting stores, auto dealers, and other outlets. The teams also priced items, such as insurance, tax preparation fees, bank interest, and private education tuition, by telephone. As noted Section 2.4, OPM surveyed some items via catalog, including all shipping costs and any applicable taxes in the price. OPM also collected other data, such as sales tax rates and airline fares, from Web sites on the Internet.

For all items subject to sales and/or excise taxes, OPM added the appropriate amount of tax to the price for computing COLA rates. Sales tax rates varied by city within Alaska and in the DC area. Some sales tax rates also varied by item, such as restaurant meals, within a location.

The data collectors collected the rice of the item at the time of the visit to the outlet. Therefore, with certain exceptions, the data collectors collected the sale price, if the item was on sale, and OPM used that sale price in the COLA calculations. The exceptions include coupon prices, going-out-of-business prices, clearance prices, and area-wide distress sales, which OPM does not use because they are atypical and/or seasonal. OPM also does not collect automobile “sale” or negotiated prices. Instead, OPM obtains the sticker (i.e., non-negotiated) price for the model and specified options. The prices are the manufacturer's suggested retail price (including options), destination charge, additional shipping charges, appropriate dealer-added items or options, dealer mark-up, an taxes, including sales tax and licensing and title fees.

3.3 Housing (Rental) Price Data Collection

As noted in Section 2.5, OPM contracted for the collection of rental data with Delta-21, which collected data in the three Alaska cities and in the DC area. These data included rental prices, comprehensive information about the size and type of dwelling, number and types of rooms, amenities, and other important aspects of the dwelling that might influence the rental price. Appendix 4 lists the data elements that the contractor collected.

The contractor identified units for rent from various sources, including rental property managers, realtor brokers, listing services, newspaper ads, grocery store bulletin boards, and casual drive-by observation. The contractor then visited each rental unit, took a photograph of the unit, and made a sketch of the floor plan based on exterior dimensions and shape. OPM made these data available to the CACs, including the photographs and sketches.

4. Analyzing the Results

4.1 Data Review

During and after the data collection process, the data collectors reviewed the data for errors and omissions. This involved reviewing the data item-by-item and comparing prides across outlets within an area to spot data entry errors, mismatches, and other mistakes.

After all of the data had been collected in both the COLA areas and Washington, DC, area, OPM staff again reviewed the data by item across all of the areas. One purpose was to spot errors not previously detected, but the principal reason was to look at substitute items.

A substitute is an item that is similar but does not exactly match the description of the specified survey item. For example, one of the items OM specified was a queen size sheet, flat of fitted, with 230-250 thread count to by surveyed in a discount store. The data collectors in Alaska, however, discovered that neither Fred Meyers nor Wal-Mart sold sheets with this thread count. Therefore, the data collectors, priced queen size sheets with a 300 thread count instead. OPM then prices the same type of sheet in the DC area and used the substitute price information for this item.

4.2 Special Price Computations

After completing its data review, OPM had to make special price computations for five survey items: K-12 private education, Federal Employees Health Benefits premiums, water utilities, energy utility prices, and rental prices. For each of these, OPM used special processes to calculate appropriate values for each survey area.

4.2.1 K-12 Private Education

One of the items OPM surveyed is the average annual tuition for private education, grades K-12, in each area. Generally, tuition rates varied by grade level, so OPM computed an overall average tuition “price” for each school surveyed by averaging the tuition rates grade-by-grade. Section 4.4.2 below describes the additional special adjustments OPM applied to these “prices” in the price comparison process.

4.2.2 Health Insurance

As noted in Section 2.3.1, OPM surveyed the non-Postal employee's premium for the various Federal Employees Health Benefit (FEHB) plans offered in each survey area. Using enrollment information from OPM's CPDF, OPM computed two weighted average premium costs—one for self-only coverage and another for family coverage—for Federal white-collar employees in each of the COLA areas and the Washington, DC, area. As shown in Table 4, OPM then computed an overall weighted average premium for each survey area by applying the number of white-collar Federal employees nationwide enrolled in self-only and family plans. OPM used these overall weighted average premiums as “prices” in the price averaging process described in Section 4.3 below.

Table 4.—2003 Average FEHB Premiums for Full-Time Permanent Employees
[Non-postal employees' share]
Location | Self premium | Family premium | Bi-weekly weighted average premium | Annual weighted average premium
Anchorage | $47.16 | $106.73 | $83.59 | $2,180.80
Fairbanks | $45.19 | $105.79 | 82.25 | 2,145.84
Juneau | $47.44 | $104.45 | 82.31 | 2,147.41
DC Area | $41.41 | $93.96 | 73.55 | 1,918.87
Natonwide Enrollment | 584,117 | 919,642 |  |
Enrollment Percentage | 38.13 | 61.87 |  |

4.2.3 Water Utilities

OPM surveyed water utility rates in each of the COLA and Washington, DC, survey areas. To compute the “price” of water utilities, OPM assumed that the average monthly water consumption in each area was 7,600 gallons. This is consistent with the consumption amount OPM used in the previous COLA survey. OPM used this quantity along with the rates charged to compute the average monthly water utility cost by survey area. OPM used these average monthly costs as “prices” in the price averaging process described in Section 4.3 below.

4.2.4 Energy Utilities Model

For energy utilities (i.e., electricity, gas, and oil), OPM collected from local utility companies and suppliers in each of the COLA and DC survey areas the price of various energy utilities used for lighting, cooking, heating, cooling, and other household needs. OPM then used the results of a heating and cooling engineering model to determine how many kilowatt hours of electricity, cubic feet of gas, and/or gallons of fuel oil are needed to maintain a specific model home at a constant ambient temperature of 72 degrees in each area. The engineering model uses local home construction information and climatic data from the National Oceanic and Atmospheric Administration and also includes the amount of electricity needed to run standard household appliances and lighting. For each survey area, OPM calculated the cost to heat and cool the model home using the different heating fuels and electricity for lighting and appliances. Although some homes use additional heating and cooling technologies, such as wood, coal, kerosene, and solar energy, OPM did not price or include these in the calculations because, based on the results of the 2000 Census, relatively few homes use these as primary energy sources.

For Fairbanks and Juneau, OPM surveyed the price of electricity and fuel oil to compute home energy costs because the 2000 Census indicated that these two sources were used to heat over 95 percent of the homes in Fairbanks and Juneau. In Anchorage, OPM surveyed gas and electricity prices because Census data indicated that 97 percent of the Anchorage homes use these energy sources for heating. In Washington, OPM surveyed the costs of all three fuels (gas, oil and electricity). OPM used percentages based on the usage of the different fuels in each survey area to compute a weighted average utility fuel cost for the area. Appendix 5 shows the energy requirements, relative usage percentages, and total costs by area. OPM used these total costs as the “price” of utilities in the COLA rate calculations.

4.2.5 Rental Data Hedonic Models

As discussed in Sections 2.5 and 3.3, OPM hired a contractor to collect rental data, including rents and the characteristics of each rental unit. OPM hired another contractor the Center of International and Interarea Comparisons (CIIC), to analyze the housing data and estimate relative rental rates and rental indexes. CIIC is well-known for its work in international price comparisons, and one of its co-directors of research is a member of the TAC. CIIC consulted closely with the TAC and the SIC in analyzing the rental survey results.

As prescribed by OPM regulations and the Caraballo settlement, CIIC used hedonic regression analysis, which is a type of multiple linear regression analysis, to compare rents in the COLA areas with rents in the DC area. Multiple linear regression is used to determine how the dependent variable (in this case rent) is influenced by the independent variables (in this case the characteristics of the rental unit). CIIC found that only some of the housing characteristics that Delta-21 collected were statistically meaningful in determining what influenced rent in the Alaska and DC areas. CIIC tested various approaches using different characteristics and shared the results with the TAC. The TAC recommended one specific equation, which OPM adopted. This equation used the independent variables listed below, although some of the variables were “crossed” (i.e., used interactively) with other variables:

Number of square feet;

Number of bedrooms;

Number of bathrooms;

Number of years since built or extensively remodeled;

Parking provided (yes/no);

Pets allowed (yes/no);

Heated garage (yes/no);

Fireplace (yes/no);

External condition (good, average, poor);

Quality of neighborhood (desirable, less desirable);

Unit Type 1 (a: high rise apartment, b: garden or in-home apartment, c: house);

Unit Type 2 (a: high rise, garden, or in-home apartment, b: house);

Area (Anchorage, Fairbanks, Juneau, or the DC area).

As is common in this type of analysis and as was done in the research leading to the Caraballo settlement, CIIC used semi-logarithmic regressions. The regression produces parameter estimates for each independent variable, including Area. When the regression uses the Washington, DC, area as the base, the regression produces parameter estimates for each of the COLA survey areas: Anchorage, Fairbanks, and Juneau. The exponent of the Area parameter estimate (i.e., when the estimate is converted from natural logarithms) multiplied by 100 (following the convention used to express indexes) yields the Area's rent index. This index reflects the difference in rents for the COLA survey area relative to the Washington, DC, area, while (in effect) holding other significant housing characteristics constant.

The TAC recommended a technical adjustment to the above calculations to correct for a slight bias caused by the use of logarithms. The exponent of the average of the logarithms of a series of numbers is always less than the average of the numbers. Therefore, at the TAC's recommendation, OPM added one-half of the standard deviation of the Area parameter estimate before converting from natural logarithms. (See Arthur Goldberger, “Best Linear Unbiased Prediction in the Generalized Linear Regression Model,” Journal of the American Statistical Association, 1962.) Table 6 shows the resulting rent indexes. OPM used these indexes as “prices” in the price averaging process described in Section 4.3.

Table 6.—Rent Indexes
Area | Rent index
Anchorage | 86.06
Fairbanks | 78.84
Juneau | 92.91
Washington, DC, Area | *100.00
* By definition, the index of the base area is always 100.00.

Appendix 6 shows the regression equation in SAS code and the regression results. (SAS is a proprietary statistical analysis computer software package.) The TAC recommended that OPM review the issue of which equation to use and how to choose among equations as additional rental data become available during the Pacific COLA surveys. OPM plans to do this.

4.3 Averaging Prices by Item and Area

After OPM collected, reviewed, and made special adjustments, as required, to the data, OPM averaged the prices for each item by COLA survey area. For example, OPM priced canned soup at three different grocery stores in Anchorage and averaged these prices to compute a single average price for canned soup in Anchorage. If OPM collected more than one price for a particular matched item within the same outlet (e.g., priced equivalent brands), OPM used the lowest price by item and outlet to compute the average. (The concept is that if the item and brands are equivalent, consumers will choose the one with the lowest price.) OPM repeated this item-by-item averaging process for each area.

For Washington, DC, area prices, OPM first averaged prices within each of the three DC survey areas described in Section 2.5. Then OPM computed a simple average of the three DC area survey averages to derive a single DC area average price for each survey item.

4.4 Computing Price Indexes

Next, OPM computed a price index for each of the items found in both the COLA survey area and in the Washington, DC, area. To do this, OPM divided the COLA survey area average price by the DC area average price and, following the convention used to express indexes, multiplied this by 100. For the vast majority of survey items, OPM next applied consumer expenditure weights. For a few items, however, OPM first applied special processes as described in Sections 4.4.1 and 4.4.2 below.

4.4.1 Geometric Means

As described in Section 2.3, OPM selected survey items to represent selected detailed expenditure categories (DECs). Generally, OPM surveyed only one item per DEC, but in a few cases, OPM surveyed multiple items at a single DEC. In these cases, OPM computed the geometric mean of the price indexes to derive a single price index for the DEC. (A geometric mean is the nth root of the product of n different numbers and is often used in price index computations.) For example, OPM surveyed two prescription drugs—Amoxicillin and Prilosec. These two different prescription drugs represent a single DEC called “prescription drugs.” To derive a single price index for the DEC, OPM computed the geometric mean of the price index for Amoxicillin and the price index for Prilosec.

4.4.2 Special Private Education Computations

As noted in Section 4.2.1, OPM surveyed K-12 private education in the COLA and DC areas and computed an average tuition “price” that reflected all grade levels. Because not everyone sends children to private school, OPM made an additional special adjustment for K-12 education by applying “use factors.” These use factors reflect the relative extent to which Federal employees make use of private education in the COLA and DC areas. For example, Table 8 below shows a use factor of 0.7816 for Anchorage. OPM computed this by dividing 10.34 percent (the percentage of Federal employees in Anchorage with at least 1 child in a private school) by 13.23 percent (the percent of DC area Federal employees with at least 1 child in a private school). OPM obtained the percentages from the results of the 1992/93 Federal Employee Housing and Living Patterns Survey, which is the most current comprehensive data available. Table 8 below shows the use factors and the adjusted price indexes for each COLA survey area.

Table 8.—Summary of Private Education Use Factors and Indexes
COLA survey area | Employees w/children in private schools: Local area | Employees w/children in private schools: DC area | Use factor | Price index | Price index w/use factor
Anchorage | 10.34 | 13.23 | 0.7816 | 37.97 | 29.67
Fairbanks | 8.56 | 13.23 | 0.6470 | 21.39 | 13.84
Juneau | 12.343 | 13.23 | 0.9395 | 23.95 | 22.50

4.5 Applying Consumer Expenditure Weights

Next, OPM applied consumer expenditure weights to aggregate price indexes by expenditure group. As noted in Section 2.3, OPM used the results of the BLS Consumer Expenditure Survey to estimate the amounts that middle income level consumers in the DC area spend on various items. Using expenditure weights, OPM combined the price indexes according to their relative importance. For example, shelter is the most important expenditure in terms of the COLA survey and represents about 28 percent of total consumer expenditures. On the other hand, the purchase of newspapers at newsstands represents less than ⅒th of 1 percent of total expenditures.

Beginning at the lowest level of expenditure aggregation (e.g., sub-PEG), OPM computed the relative importance in percent of each survey item within the level of aggregation, multiplied the price index times its expenditure percentage, and summed the cross products for all of the items within the level of aggregation to compute a weighted price index for that level. OPM repeated this proces at each level of aggregation (e.g., PEG and MEG). Appendix 7 shows these calculations for each COLA survey area at the PEG and MEG level. The above process resulted in an overall price index for each of the Alaska COLA areas (shown in Appendix 7) but not for the Rest of the State of Alaska.

4.6 Computing the Overall Price Index for Rest of the State of Alaska

Pursuant to the Caraballo settlement agreement, OPM did not conduct a living-cost survey in the Rest of the State of Alaska COLA area. Instead, OPM obtained information published by the University of Alaska and the Alaska Department of Labor and Workforce Development that compared prices in Anchorage with various other locations in Alaska. OPM used these data to compare prices in Kodiak, Alaska, with prices in Anchorage to compute, to the extent practical, Kodiak price indexes at the PEG and MEG level using Anchorage as the base. OPM then multiplied the MEG price indexes by the anchorage indexes shown in Appendix 7 to estimate price differences in Kodiak compared with the DC area. OPM used the expenditure weights and the process described above to aggregate these indexes and produce an overall price index for the Rest of the State of Alaska, as shown in Appendix 8.

5. Final Results

To compute the overall living-cost index, OPM added to the price index a non-price adjustment factor. The parties in Caraballo negotiated these factors to reflect differences in living costs that might not be captured by the surveys, and OPM adopted these factors in regulation as part of the new methodology. The factor for Anchorage is even index points. The factor for all other COLA areas in Alaska is nine index points. The resulting living-cost indexes are shown in Table 9.

Table 9.—Final Living-Cost comparison Indexes
Allowance | Index
Anchorage | 112.63
Fairbanks | 1152.00
Juneau | 118.34
Rest of the State of Alaska | 134.80

6. Post Survey Meetings

In October 2003, the CACs, SIC, and TAC held 1-day joing meetings in Anchorage, Fairbanks, and Juneau to review the survey results. OPM provided the committee members with various reports showing all the data that OPM collected, examples of how OPM reviewed these data, the data that OPM used in its analyses, and the results at the PEG and MEG level, as shown in Appendix 7. Members of the TAC explained how the rental data were analyzed and how OPM sued expenditure weights to combine price indexes to reflect overall living costs.

Appendix 1—Publication in the Federal Register of Prior Survey Results: 1990-1998

Citation | Contents
65 FR 44103 | Report on 1998 living-cost surveys conducted in Alaska, Hawaii, Guam, Puerto Rico, and the U.S. Virgini Islands.
63 FR 56432 | Report on 1997 living-cost surveys conducted in Alaska, Hawaii, Guam, Puerto Rico, and the U.S. Virgin Islands.
62 FR 14190 | Report on 1996 living-cost surveys conducted in Alaska, Hawaii, Guam, Puerto Rico, and the U.S. Virgin Islands.
61 FR 4070 | Report on winter 1995 living-cost surveys conducted in Alaska.
60 FR 61332 | Report on summer 1994 living-cost surveys conducted in Hawaii, Guam, Puerto Rico, and the U.S. Virgin Islands.
59 FR 45066 | Report on winter 1994 living-cost surveys conducted in Alaska.
58 FR 45558 | Report on summer 1992 and winter 1993 living-cost surveys conducted in Alaska, Hawaii, Guam, Puerto Rico, and the U.S. Virgin Islands.
58 FR 27316 | Report on summer 1993 living-cost surveys conducted in Hawaii, Guam, Puerto Rico, and the U.S. Virgin Islands.
57 FR 58556 | Report on summer 1991 and winter 1992 living-cost surveys conducted in Alaska, Hawaii, Guam, Puerto Rico, and the U.S. Virgin Islands.
56 FR 7902 | Report on summer 1990 living-cost surveys conducted in Alaska, Hawaii, Guam, Puerto Rico, and the U.S. Virgin Islands.

BILLING CODE 6325-39-M

Appendix 3—Cola Survey Items and Descriptions

Adhesive Bandages. One box of 30 adhesive bandages, assorted sizes, clear or flexible. [Note: In Virginia, add tax to this item.] Use: Band Aid brand.

Airfare Los Angeles. Lowest cost round trip ticket to Los Angeles, CA, 3-week advance reservation, departing and returning midweek. (Including Saturday night stay). Price non-refundable ticket. Disregard restrictions, super-saver fares, and special promotions. In reference area, price flights from BWI for MD, National for DC, and Dulles for VA. Price all flights via Internet on same day. Use: Major carrier.

Airfare Miami. Lowest cost round trip ticket to Miami, FL, 3-week advance reservation, departing and returning midweek. (Including Saturday night stay). Price non-refundable ticket. Disregard restrictions, super-saver fares, and special promotions. In reference area, price flights from BWI for MD, National for DC, and Dulles for VA. Price all flights via Internet on same day. Use: Major carrier.

Airfare Seattle. Lowest cost round trip ticket to Seattle, WA, 3-week advance reservation, departing and returning midweek. (Including Saturday night stay). Price non-refundable ticket. Disregard restrictions, super-saver fares, and special promotions. In reference area, price flights from BWI for MD, National for DC, and Dulles for VA. Price all flights via Internet on same day. Use: Major carrier.

Airfare St. Louis. Lowest cost round trip ticket to St. Louis, MO, 3-week advance reservation, departing and returning midweek. (Including Saturday night stay). Price non-refundable ticket. Disregard restrictions, super-saver fares, and special promotions. In reference area, price flights from BWI for MD, National for DC, and Dulles for VA. Price all flights via Internet on same day. Use: Major carrier.

Alternator (Chevrolet). Price of an 105 Amp alternator for a 1996 Chevrolet Silverado 1500, Regular Cab, 4WD, 119.0″ wheelbase, 2 door, 6½ ft. fleetside bed, 4.3 liter, V6, 5-speed manual transmission, to the consumer at a dealership. Remanufactured. Use: Dealer recommended brand.

Alternator (Ford). Price of a 95 Amp alternator for a 1996 Ford Explore 4.0L Fuel Injected V6 with A/C and Automatic Transmission to the consumer at a dealership. Remanufactured. Use: Dealer recommended brand.

Alterenator (Honda). Price of an alternator for a 1996 Honda Civic DX, 1.6L, 4-cylinder, with A/C and Automatic Transmission to the consumer at a dealership. Remanufactured. Use: Dealer recommended brand.

Antacid. One large size bottle of extra strength tablets. 96 tablets. Use: Tums EX 96.

Antibacterial Ointment. One ounce tube of antibacterial ointment. Use: Neosporin.

Apples. Price per pound, loose (not bagged). If only bagged available, report bag weight. Note quality in comments. Use: Red Delicious.

Area Rug. Approximately 8′ x 11′ braided rug, flat woven, 3-ply yarn. Wool/nylon/rayon. Multi-colored accents. (Include sales tax and shipping and handling.) Use: American Tradition.

Artificial Sweetener. Fifty count package of artificial sweetener. Use: Equal.

Aspirin. Fifty count bottle. If no Bayer, report Bufferin or Excedrin as a substitute. Use: Bayer.

ATV. All terrain sports vehicle with 250-300cc engine, with electric start. Use: Honda 2003 Sportrax 300EX, Polaris Trailblazer 400.

Auto Finance Rate. Interest rate for a 4-year loan on a new car with a down payment of 20 percent. Assume the loan applicant is a current bank customer who will make payments by cash/check and not by automatic deduction from the account. Use: Interest Percentage Rate (x 100).

Auto Inspection. Annual cost of auto safety and emissions inspection required by local government. If not required annually, prorate to annual assuming 4-year trade cycle. (Certificate and inspection required every 2 years in Anchorage and Fairbanks. No inspection required in Juneau. Various inspections required in all DC areas.) Use: Auto Inspection.

Baby Food. 4 oz. jar strained vegetables or fruit. Use. Gerber 2nd Foods.

Babysitter. Minimum hourly wage appropriate to area. Use: Babysitting.

Baking Dish. Eight inch square glass, clear or tinted. Exclude baking dish with cover or lid. Use: Anchor Hocking, Pyrex.

Bananas. Price per pound. If sold by bunch, report price and weight of average sized bunch. Note quality in comments. Use: Available brand.

Bath Towel. Approximately 54½″ x 30″ x 30 wide, 100% cotton, medium weight. Side hem is woven selvage. Bottom hem may be folded. Use: Store brand.

Beer at home (Cans). Six-pack of 12 oz cans of beer. Do not price refrigerated beer unless that is the only type available. Include [liquor tax FA 5%, JU 3%] plus applicable sales tax in price. Use: Budweiser.

Beer Away (Casual). One glass of beer. Price only at casual restaurants where dinner is also priced. (Check Sales Tax and INCLUDE in price.) Use: Budweiser.

Beer Away (CH-type). One glass of beer. Price only at “Chart House” type restaurants where dinner is priced. (Check Sales Tax and INCLUDE in price.) Use: Budweiser.

Board Game. Standard edition, not deluxe. Use: Sorry.

Book, Paperback. Store price (not publisher's list price unless that is the store price) for top selling paperback book. Also price via Amazon.com. Use: 2nd Chance (Fiction), The Summons (Fiction).

Bowling. One game of open (or non-league) 10-pin bowling on Saturday night. Exclude shoe rental. If priced by the hour, report hourly rate divided by 5 (estimated number of games per hour) and note hourly rate in comments. Do not price duck-pin bowling. Use: Bowling.

Boy's Jeans. Relaxed fit, size range 9-14, pre-washed jeans. Not bleached, stone-washed or designer jeans. Use: Levi's 550 Relaxed Fit.

Boy's Polo Shirt. Knit polo-type short sleeve shirt with collar, solid color, cotton/polyester, size range 8-14. Use: Izod.

Boy's T-Shirt. Screen-printed t-shirt for boys ages 8 thru 10 (size 7-14). Pullover with crew neck, short sleeves and polyester/cotton blend. Do not price team logo shirts. [Changed post survey to Sears' Canyon River brand only.] Use: Store brand.

Bread, Wheat. Twenty ounce loaf, sliced, wheat bread. Use: Home Pride.

Bread, White. Twenty-two to 24 ounce loaf sliced white bread. Use: Wonder.

Breakfast Full Service. Two strips of bacon or two sausages, two eggs, toast, hash browns, coffee, and juice. (Check Sales Tax and include in price.) Use: Breakfast.

Breakfast, Fast Food. Egg McMuffin, hash brown and coffee. Use value meal, medium size. (Check sales tax and INCLUDE in price.) Use: Egg McMuffin Value Meal.

Cable TV, Digital service. One month of digital cable service. Include digital converter, and universal remote fees. Do not price value packages or premium channels i.e. Showtime, HBO, Cinemax. Do not report hook-up charges. Itemize taxes and fees as percent rates or amounts and add into price. Use: One month of Digital Cable TV.

Camera Film. Four-pack, 35 millimeter, 24 exposure, 400 ASA (speed). Use: Kodak Max.

Candy Bar. One regular size, weight approx. 1.55 to 2.13 ounce. Not king-size or multi-pack. Use: Snickers.

Canned Chopped Ham. Twelve ounce can of processed luncheon meat. Do not price turkey, light or smoked. Use: SPAM.

Canned Green Beans. Fourteen to 15 ounce can of plain cut green beans. Do not price French cut style, Italian style, or similar specialty variations. Use: Del Monte.

Canned Peaches. Fifteen to 16 ounce can of peaches. Use: Del Monte.

Canned Soup. Regular size (approx 10 ounce). Not hearty, reduced fat or salt free varieties. Use: Campbell's Chicken Noodle Soup.

Canned Tuna. Chunk light, packed in water (6.0 to 6.13 ounce). Do not price fancy style or albacore. Use: Star Kist.

Cellular Phone Plan (300). Cellular phone service with a minimum of 300 anytime minutes per month. Price via internet, all areas at the same time. Call for fee information. Price CELLULARONE Clear Across America 300 minute plan for Juneau and Fairbanks, Alaska. Use Cingular home 300 for DC area. Itemize taxes and fees as percent of rates or amounts and add to price. Use: CellularOne C.A.A. Plan 300 (AK), Cingular Home Plan 300 (DC area).

Cellular Phone Plan (450). Cellular phone service with a minimum of 450 anytime minutes per month. Price via internet, all areas at the same time. Call for fee information. Price GCI for Alaska. Itemize taxes and fees as percent of rates or amounts and add to price. Use: GCI Digital One Bronze (AK), AT&T Digital One Rate (DC area).

Cellular Phone Plan (500). Cellular phone service with a minimum of 500 anytime minutes per month. Price via internet, all areas at the same time. Call for fee information. Sprint has no wireless service in Alaska. Price ACS for Alaska. Itemize taxes and fees as percent of rates or amounts and add to price. Use: ACS 500 Nationwide Minutes (AK), Sprint PCS Free & Clear (DC area).

Cereal. Twenty ounce box of raisin bran cereal. Use: Post Raisin Bran.

Charcoal Grill. Charcoal grill, heavy gauge, porcelain-enameled, steel lid, approximately 22.5 inches in diameter. Use: Weber 1 Touch Silver 22½ (model 741001).

Cheese. Ten ounce package cheese. Price sharp cheddar if available. Use: Kraft Cracker.

Chevrolet License, Registration, Taxes and Inspection. License, registration, periodic taxes (e.g., road or personal property tax, but not one-time taxes such as sales tax), and inspection (e.g., safety and emissions) on a 2003 Chevrolet Silverado 1500, Regular Cab, 4WD, 119.0″ wheelbase, 2 door, 6½ ft. fleetside bed, 4.3 Liter, V6, 5-speed manual transmission. Use: Specified Chevrolet.

Chevrolet Silverado 1500. Purchase price of a 2003 Chevrolet Silverado 1500, Regular Cab, short box, 4 wheel drive, 119.0″ wheelbase, 2 door, 6½ ft. fleetside bed, 4.3 Liter, V6, 5-speed manual transmission. Please note the price of any special option packages. Use: Chevrolet Silverado.

Chuck Roast. Price per pound, fresh (not frozen or previously frozen) USDA Choice graded if available. If Choice not available, note USDA grade in comments. Price average size package. Not family-pack, value-pack, super-saver pack, or equivalent. Use: Chuck Roast With Bone.

Chuck Roast, boneless. Price per pound, fresh (not frozen or previously frozen) USDA Choice graded if available. If Choice not available, note USDA grade in comments. Price average size package. Not family-pack, value-pack, super-saver pack, or equivalent. Use: Chuck Roast.

Cigarettes. One pack filter kings. Not generic. (In Alaska tobacco tax is built-into price.) Use: Marlboro.

Clean and Check-Up. Current patient charge for routine exam, including 2-bite wing x-rays and cleaning of teeth (light scaling and polishing). No special treatment of gums or teeth. Not initial visit. Not specialist or oral surgeon. Price for an adult. Use: Dentist Check-Up.

Coffee, Ground. Thirteen ounce can. Do not price decaffeinated or special roasts. Use: Folger's.

Compact Disc. Current best-selling CD. Do not price double CD's. Use: Norah Jones, Come Away With Me; Avril Lavigne, Let Go.

Contact Lenses. One box of disposable contact lenses, 3 pairs in the box, a pair lasts 2 weeks. Price of one box only. Use: Bausch & Lomb, Aeuvue.

Cookies. Sixteen to 18 ounce package. Use: Nabisco Chips Ahoy!

Cooking Oil. Forty-eight fluid ounce plastic bottle. Not blends, corn oil, olive oil, or canola oil. Use: Crisco.

Cordless Phone. Nine hundred MHz Analog cordless phone with Caller ID and Digital Answering Machine. Use: Uniden 900 MHz (EXA13781).

Credit Card Interest. Obtain credit card interest rate and apply it to the national average balance ($8,562) plus any annual fees charged by the bank. Do not use Gold or Platinum cards. Use: Total Cost.

Cremation. Direct cremation. Includes removal of remains, local transportation to crematory, necessary body care and minimal service of the staff. Include crematory fee. Do not include price of urn. Use: Cremation.

Cured Ham, not canned. Price per pound a bone-in cured ham. Do not price honey glazed. If store brand cannot be determined, match the lowest priced item to store brand and note in comments. All other data, such as national brand, should be matched as a substitute. Use: Store brand.

Day Care. One month of day care for a 3-year old child, 5 days a week, about 10 hours per day. If monthly rate is not available, (1) obtain weekly rate, and record in the comments section, and (2) multiply weekly rate by 4.33 to obtain monthly rate. Use: Day Care.

Dental Crown. Cost of a full crown on a lower molar, porcelain fused to a high noble metal. Price crown only. Do not include price of preparation or restoration of tooth to accept crown. Price for an adult. Use: Dental Crown.

Dental Filing. Lower molar, two surfaces resin-based composite filling. Price for an adult. Use: Dental Filling.

Dining Table Set. Expandable, rectangular table, removable 18″ leaf, expands table from 60 to 78″ long. 40 x 30″ H. 4 chairs 19 x 19 x 37″ H. (Include sales tax and shipping and handling.) Use: Normandy Dining Set (5-piece).

Dinner FS (Casual). Eight to 12 ounce steak, small side dish (e.g., rich or potato), side salad or salad bar, and coffee. Meal should not include dessert. If 8-12 oz unavailable, price closest size and note in comments. (Check Sales Tax and include in price.) Use: Steak Dinner.

Dinner FS (CH-type). Ten to 16 ounce steak, salad, rice or potato, and coffee. Do not include tip. (Check Sales Tax and include in price.) Use: Large Steak Dinner.

Dinner FS (PH-type). Eight to 12 ounce steak, small side dish (e.g., rice or potato), side salad or salad bar, and coffee. Meal should not include dessert. If 8-12 ounce unavailable, price closest size and note in comments. (Check Sales Tax and include in price.) Use: Steak Dinner.

Dish Set. Corelle Abundance pattern tableware 20-piece set. Includes: four dinner plates, four luncheon plates, four bowls, four cups, and four saucers. Pattern is beige with a fruit and flower motif. Use: Corelle Impressions.

Disposable Diapers. Forty-eight count package, Stage 2 (child 12-18 lbs.) Not overnight or larger size diapers. Use: Pampers Stage 2.

Doctor Office Visit. Typical fee when medical advice or simple treatment is needed. Not initial visit. Exclude regular physical examination, injections, medications, or lab tests. Price general practitioner not pediatrician or other specialist. Use: Doctor Visit.

Drill, Cord. Half-inch reversible, variable speed, key-type chuck, 5.5amp electric drill with cord. Use: Black & Decker DR500.

Drill, Cordless. Variable speed, reversible, ⅜ in. keyless ratcheting chuck, 14.4 volt, electric drill with fast recharge,with battery charger. Use: DeWalt DW928K-2. (Sears Item #00926842000 Mfr. Model #DW928K-2).

Dry Clean Man's Suit. Two-piece man's suit of typical fabric. Do not price for silk, suede or other unusual materials. Use: Dry Cleaning.

DVD Movie. Current best-selling DVD movie. Do not price double DVDs. Use: Maid in Manhattan, Road to Perdition, 8 Mile.

DVD Player. Progressive scan 5-disc CD/DVD changer. Note: Model numbers may vary by dealer. Use: Sony (DVP-NC655P).

Education, K-12 Private. Cost of tuition. Note if books and uniforms are included. If price varies by grade, record in comments price for each grade. Note any annual, recurring fees, i.e., registration, computer, activity, etc. Avoid pricing at church-affiliated schools if possible. If not possible, note any rate difference for church members versus others. Use: Ed, K-12 Private.

Education, K-8 Private. Cost of tuition. Note if books and uniforms are included. If price varies by grade, record in comments price for each grade. Note any annual, recurring fees, i.e., registration, computer, activity, etc. Avoid pricing at church-affiliated schools if possible. If not possible, note any rate differences for church members versus others. Use: Ed, K-8 Private.

Eggs (White, Large). One dozen large eggs. Not brown eggs. If store brand cannot be determined, match the lowest priced item to store brand and note is comments. All other data, such as national brand, should be matched as a substitute. Use: Store brand.

Electric Broom. Electric broom style vacuum cleaner w/approx. 2-6 amps, 120 volts. Electric bag-less broom, dirt cup. Use: Eureka The Boss bag-less (96B).

Electric/Gas/Oil Bill. Total monthly utility cost for electricity/gas/oil (as appropriate) from utility function model. Use: Electric/gas/oil bill.

Fast Food Dinner Burger. Hamburger meal consisting of a Big Mac, medium fries and medium soft drink. (Check sales tax and include in price.). Use: Big Mac Value Meal.

Fast Food Dinner Pizza. Medium cheese pizza (without extra cheese) with salad and small soft drink. (Check sales tax and Include in price.). Use: Medium Cheese Pizza.

Fast food Lunch Burger. Hamburger meal consisting of a Big Mac, medium fries and medium soft drink. (Check sales tax and include in price.) Use: Use Big Mac Value Meal.

Fast Food Lunch Pizza. Personal size cheese pizza (without extra cheese) or one slice of cheese pizza, and a small soft drink. Do not include salad. (Check sales tax and include in price.) Use: Cheese Pizza.

FEGLI (Life Insurance). Federal Life Insurance. Assumed to be constant across all areas. Use: Fixed amount.

FEHB Insurance. Self only and family Federal Health Benefits Insurance. Use: OPM data on enrollment data and premiums.

FERS/CSRS Contributions. Federal retirement contributions. Assumed to be constant across all areas. Use: Fixed amount.

Filing Cabinet. Two-drawer metal vertical file cabinet, approx. 24″ x 14″ x 18″, file drawer sides may accommodate hanging files. [Changed post survey to Space Solutions-Basic File, model 14543 only.]. Use: Space Solutions, work Org brand.

Film Processing 1 Hour. One hour color film processing, in store. 24 exposure, 35 mm, 3 x 5 or 4 x 6 single prints. Use: One hour processing.

Ford Explorer. Purchase price of a 2003 Ford Explorer XLT, 4x4, 4 door, 4.0 liter, 6 cylinder, 5-speed automatic overdrive transmission. Please note the price of any special option packages. Use: Ford Explorer XLT.

Ford License, Registration, Taxes, and Inspection. License, registration, periodic taxes (e.g., road or personal property tax, but NOT one-time taxes such as sales tax), and inspection (e.g., safety and emissions) on a 2003 Ford Explorer XLT, 4 x 4, 4 door, 4.0 liter, 6 cylinder, 5-speed automatic overdrive transmission. Use: Ford as specified.

Fresh Halibut Filet. Price per pound of fresh halibut fillet. Do not price previously frozen (PF) or specially prepared varieties. Do not price family-pack value-pack, super-save pack, or equivalent. Use: Fresh Halibut Filet.

Frozen Fish Fillet. Price of frozen ocean whitefish breaded filets, Crunchy Lemon Herb, 10 count. Use: Gorton's breaded fish fillets.

Frozen Orange Juice. Twelve fluid ounce orange juice concentrate (makes 48 fl oz). Do not price calcium fortified, pulp free, country style, etc. Use: Minute Maid.

Frozen Peas. Sixteen ounce package of frozen peas. Use: National brand. (Bird's Eye) [Changed post survey to C&W Petite peas.]

Frozen Turkey, National Brand. Price per pound of USDA graded, frozen turkey. Do not price fresh turkey. Try to price approximately 14-16 pound bird Use: Butterball Turkey.

Frozen Turkey, Store Brand. Price per pound of USDA graded, frozen turkey. Do not price fresh turkey. Try to price approximately 10-13 pound bird. Use: Store brand.

Frozen TV Dinner. One 11 ounce (approximate) frozen dinner with vegetable and/or other condiment. Do not price Hungry Man or equivalent extra-portion sizes. Use: Swanson Turkey Breast, Swanson Angus Salisbury Steak.

Frozen Waffles. Ten waffles per package. Use: Eggo.

Fruit Drink. One gallon (128 fl oz) bottle. Use: Hi-C, Hawaiian Punch.

Fruit Juice. Forty-eight ounce glass or plastic bottle of juice. Use: Ocean Spray Cranberry Juice.

Gas. Price per gallon for self-service unleaded regular gasoline. Use: Major brand.

Gelatin. Three ounce box gelatin dessert. Use: JELLO-O.

General Admission Evening Film. Adult price for regular length, current-release (currently advertised on television). Report weekend evening price if different from weekday. Use: Movie.

Girl's Dress. Cotton blend short or long-sleeved dress appropriate for school. Exclude extra ornamentation. Size range 7-14 (for ages 8-10). Do not price in Junior's section. Use: Zoey, Girl Code.

Girl's Jeans, Levi's 514. Slim fit in the seat and thighs with flared legs and traditional 5-pocket styling, for girls ages 8-10 (size 7-14). [Changed post-survey to Levi's 514 in place of 517]. Use: Levi's 514.

Girl's Jeans, Store brand. Girls regular fit, pre-washed, 5-pocket jeans, for girls ages 8-10 (size 7-14). Use: Store brand, (JC Penney's brand is Arizona.)

Girl's Polo Type Top. Girl's polo cotton blend, striped or solid pattern. Sizes 7-14. May find sizes S, M, and L, which is acceptable. Do not price in Junior's section. Note brand in comments. Use: Available brand.

Gold Ball Earrings hollow (Dept). One pair 6mm, 14K hollow, gold ball earrings for pierced ears. If not available, but 4, 5, 7 or 8mm are available, record each separately as a substitute. Do not price gold filled. Use: Store brand.

Ground Beef (15% fat). Price per pound, fresh (not frozen or previously frozen) USDA Choice graded if available. If Choice not available, note USDA grade in comments. Price average size package. Not family-pack, value-pack, super-saver pack, or equivalent. Use: 15% fat.

Ground Chuck or 20% fat Ground Beef. Price per pound, fresh (not frozen or previously frozen) USDA Choice graded if available. If Choice not available, note USDA grade in comments. Use average size package. Not family-pack, value-pack, super-saver pack, or equivalent. Use: Ground chuck or 20% fat Ground beet.

Hamburger Bunds. Eight-count package of sliced enriched white hamburger buns. Do not price store brand, lite, whole wheat, or sesame seed buns. Use: Wonder.

Hand-Held Vacuum. Cordless, 7.2 volt, hand-held vacuum with upholstery brush and crevice tool. Use: Black & Decker DustBuster.

Health Club Membership. One-year regular individual membership for existing member. No special offers. If no yearly rate, price month and prorate. Service must include free weights, cardiovascular equipment, and aerobic classes. Note if pool, tennis, racquet ball, or other service included. (Gold's Gym-type) Use: Health Club.

Honda Civic. Purchase price of a 2003 Honda Civic Sedan DX, 4 door, 1.7 liter, SOHC, 4 cylinder, automatic transmission, without side airbags. Add A/C. Please note the price of any special option packages. Use: Honda Civic DX.

Honda License, Registration, Taxes, & Inspection. License, registration, periodic taxes (e.g., road or personal property tax, but NOT one-time taxes such as sales tax), and inspection (e.g., safety and emissions) on a 2003 Honda Civic Sedan DX, 4 door, 1.7 liter, 4 cylinder, automatic transmission. Use: Honda as specified.

Hospital Room (Private). Daily charge for a private room only. Include food and routine care. Exclude cost of operating room, surgery, medicine, lab fees, etc. Do not price speciality rooms, e.g. those in cardiac care units. Use: Private Room.

Hospital Room (Semi-Private). Daily charge for a semi-private room only. Include food and routine care. Exclude cost of operating room, surgery, medicine, lab fees, etc. Do not price speciality rooms, e.g., those in cardiac care units, medicine, lab fees, etc. Do not price speciality rooms, e.g., those in cardiac care units. Use: Semi-Private Room.

Hot Dogs. Sixteen ounce package, all beef, USDA graded. Do not price chicken, turkey, extra lean, or fat free frankfurters. Use: Oscar Mayer Beef Franks.

Housekeeping (Hourly Wage). Local hourly wage for a housekeeper or janitor. Bureau of Labor Statistics (BLS) code 37-2012. Use: BLS wage data.

Ice Cream Cone (Gourmet). Regular (one scoop) vanilla ice cream cone. Not frozen yogurt or soft-service ice cream. Use: Ice Cream Cone (Gourmet).

Ice Cream Cone. Regular (one scoop) vanilla ice cream cone. Not frozen yogurt on soft-serve ice cream. Use: Ice Cream Cone.

Ice Cream. One-half gallon vanilla flavored. Not ice milk, fat free, sugar free, or frozen yogurt. Use: Breyers.

Infant's Sleeper. One-piece sleeping garment with legs, covering the body including the feet. Can be packaged or hanging. Use: Carters.

Instant Rice—Long Grain. Instant white rice, long grain. Use: Uncle Ben's Instant Rice.

Insurance, Chevrolet Regular. Annual premium for Chevrolet; 35-year-old married male driver, currently insured, no accidents/violations. Commuting 15 miles one-way/day, annual 15,000 miles. BI 100/300, PD 25, Med 15 or PIP 50, UM 100/300. Comp 100 deductible. Col 250 deductible. If this level of coverage is not available, price the policy with the closest coverage. Use: National company, if available.

Insurance, Ford Regular. Annual premium for Ford; 35-year-old married male driver, currently insured, no accidents/violations. Commuting 15 miles one-way/day, annual 15,000 miles. BI 100/300, PD 25, Med 15 or PIP 50, UM 100/300. Comp 100 deductible. Col 250 deductible. If this level of coverage is not available, price the policy with the closest coverage. Use: National company, if available.

Insurance, Honda Regular. Annual premium for Honda; 35-year-old married male, currently insured, no accidents/violations. Commuting 15 miles one-way/day, annual 15,000 miles. BI 100/300, PD 25, Med 15 or PIP 50, UM 100/300. Comp 100 deductible. Col 250 deductible. If this level of coverage is not available, price the policy with the closest coverage. Use: National company, if available.

Internet Service, High Speed. Monthly charge for unlimited High Speed Internet access, 1.5M/128K with 20 gigabytes transfer approximately, via DSL or Cable. Price via internet, all areas at the same time. Call for fee information. Itemize taxes and fees as percent of rates or amounts and add into price. Use: Local Provider.

Jelly. Eighteen ounce jar of grape jelly. Use: Welch's.

Ketchup. Twenty-four ounce plastic squeeze bottle. Use: Heinz.

Kitchen Range (Electric)—1. 4.65 cu ft, 30″ electric, free standing, self-cleaning, smooth top range. Note: Model numbers may vary by dealer. [Original electric range for survey not found in Anchorage. This item was found in DC and AN. Added post survey.] Use: Whirlpool RF368LXKQ.

Kitchen Range (Electric)—2. 4.65 cu ft, 30″ electric, free standing, self-cleaning, smooth top range. Note: Model numbers may vary by dealer. Use: Whirlpool (FR364PXKW).

Kitchen Range (Electric)—3. 5.0 cu ft, 30″ electric, free standing, smooth top range. Note: Model Numbers may vary by dealer. Use: GE Spectra (JBP64BBWH).

Kitchen Range (Gas)—1. Thirty inch free standing gas range. Note: Model numbers may vary by dealer. Use: GE (JGBP30BEAW).

Kitchen Range (Gas)—2. Thirty inch free standing gas range. Note: Model numbers may vary by dealer. [Original gas range for survey not found in Juneau. This item was found in DC and JU. Added post survey.] Use: Whirlpool SF357PEKQ.

Laptop Computer. Gateway laptop with Mobile Intel Pentium 4 processor, 2.4 GHz, 512 MB, 40GB Hard Drive, 3.5″ Diskette Drive, 24×/10×/24× CDRW and 8× DVD combo, 15″ monitor. Note: 600S package includes a carrying case and an extended service plan. (Include tax and shipping and handling, if applicable.) Use: Gateway Laptop 600S.

Laundry Soap. Eighty fluid ounce liquid household laundry detergent: Use: Wisk Ultra Sport.

Lawn Care (Hourly Wage). Local wage for gardener/grounds keeper. BLS code 37-3011. Use: BLS wage data.

Lawn Mower, Self Propelled. Twenty-one to 22 inch self-propelled 6.5 HP gas lawn mower. [Changed post survey to Toro brand only.] Use: Craftsman (37844), Toro (20017).

Lawn Trimmer, Gas. Gas powered 25cc 2-cycle engine, 17-18″ wide cut. Straight or curved shaft okay. Bump or automatic line feed. Note: Model numbers may vary by dealer. Use: Craftsman 17″ Gas Line Trimmer, Homelite (UT20778).

LD Call Chicago. Cost of a 10 minute long distance call using regional carrier, received on a weekday in Chicago at 8 p.m. (Chicago time); direct dial. Itemize taxes and fees as percent of rates or amounts and add to price. Use: AT&T.

LD Call Los Angeles. Cost of a 10 minute long distance call using regional carrier, received on a weekday in LA at 8 p.m. (LA time); direct dial. Itemize taxes and fees as percent of rates or amounts and add to price. Use: AT&T.

LD Call New York. Cost of a 10 minute long distance call using regional carrier, received on a weekday in NY at 8 p.m. (NY time); direct dial. Itemize taxes and fees as percent of rates or amounts and add to price. Use: AT&T.

Lettuce. Price per pound of iceberg lettuce. If only sold by the head, note weight of an average head in comments. Use: Available brand.

Lipstick. One tube. Use: Revlon Super Lustrous, Revlon Moondrops.

Living Room Chair. Padded rocker/recliner. Side-handle for reclining. High arms and wide seat. Covered with a textured chenille fabric. (Include sales tax and shipping and handling.) Use: Rocker/Recliner.

Lunch FS (PH-type). Cheeseburger platter with fries and small soft drink. (Check sales tax and include in price.) Record burger weight in comments. Use: Cheeseburger Platter.

Lunch Full-Service (Casual). Cheeseburger platter with fries and small soft drink. (Check sales tax and INCLUDE in price.) Record burger weight in comments. Use: Cheeseburger.

Lunch Meat. Eight ounce package. Price All-Beef variety. Use: Oscar Mayer Beef Bologna.

Magazine Subscription. One-year home delivery price of a magazine. Use: Time.com.

Magazine. Store price (not publisher's list price unless that is the store price) for a single copy. Use: Time.

Man's Athletic Shoe (Dept—1). Man's walking shoe, soft leather upper. Full-length Phylon midsole with low-pressure Air-Sole units in heel and forefoot. Composition rubber outsole. Use: Reebok Classic.

Man's Athletic Shoe (Dept—2). Man's walking shoe. Full-grain leather upper, reflective material, polyurethane removable sock liner, DMX walk chamber. Composition rubber outsole. Use: Reebok Men's Platinum DMX.

Man's Athletic Shoe (Shoe). Man's walking shoe, soft leather upper. Full-length Phylon midsole with low-pressure Air-Sole units in heel and forefoot. Composition rubber outsole. Use: Reebok Classic.

Man's Boot. Man's boot, full-grain waterproof leather and vulcanized rubber. Liner has an acrylic cuff. Liner also has Heat Pack Pocket. Inside, a 13mm Texel® liner. Use: Polar Cap Pac Boot (SC-83-0147).

Man's Dress Shirt. White or solid color long sleeve button cuff plain collar dress shirt. Approximately 35% cotton/65% polyester. Use: Arrow, Van Heusen.

Man's Jeans. Levi's® Red Tab 550 Relaxed-Fit Jeans. Use: Levi's Red Tab 550.

Man's Khaki Pants. Man's casual khakis, any color, relaxed-fit or classic fit, no wrinkle, flat-front or pleated, cotton twill. Use: Dockers Flat Front, Dockers Pleated.

Man's Leather Dress Shoe. Full leather lining, oak tanned/buffed leather outsoles, polished leather uppers, steel shank. Use: Bostonian Akron.

Man's Leather Dress Shoe (Catalog). Leather oxford. Cushioned insole and heel pad. Combination leather and rubber sole. (Can be a wingtip). Use: Bostonian Barrie.

Man's Leather Dress Shoe (Dept). Leather oxford. Cushioned insole and heel pad. Combination leather and rubber sole. (Can be a wingtip). Use: Bostonian Barrie, Rockport.

Man's Parka. Man's goose down parka 65/35 polyester/cotton, weatherproof Teflon® finish. Waist drawstring, hand-warmer pockets, button-flap cargo pockets, pockets secure with Velcro®, Medium size. Price regular sizes, not tall. (Include sales tax and shipping and handling.) Use: North Slope Goose Down Parka.

Man's Regular Haircut, Salon. Wash, regular haircut, and blow dry for short to medium length hair. Price hair salons in major department stores and malls. Use: Man's Regular.

Man's Sport Watch. Leather strap, plastic face, water-resistant up to 100 meters, digital display, date feature, lap counter, countdown timer, 12/24 hour time, 2nd time zone with date, 3 alarms, strap/watch colors may vary. Additional models that could be matched are 48001, 47871, and 48021. Different models represent different color of face or strap. Use: Timex Expedition (48042).

Man's Suit. Double-breasted worsted wool suit coat, flap pockets, chest pocket, dry clean. Regular size, full acetate lining. Price as a separate, not combo. (Include sales tax and shipping and handling.) Use: Stafford Suit Coat.

Man's Thermal Underwear. Thermax Medium Weight Crew—Regular. Top has rib-knit cuffs. Machine washable. (Include tax and shipping and handling. Standard Express shipping for order amount: $15.01-$30.00 is $5.95.) Use: CABELA's Thermax (SC-900949).

Man's Undershirt. One package of three Men's t-shirts. V-neck. White 100% cotton undershirts with short sleeves. Use: Jockey.

Margarine. One (4 sticks) regular margarine. Do not price reduced fat variety. Use: Parkay.

Mattress and Foundation. Full-size mattress and foundation. Quilted cotton/polyester blend layer, convoluted supersoft polyfoam. Mattress thickness: 11¾”. Shock absorber foundation. (Include sales tax and shipping and handling.) Use: Sealy Premium Plush Full.

Mayonnaise. Thirty-two ounce jar of mayonnaise. Do not price light or fat free. Use: Kraft.

Measuring Tape. Twenty-five foot tape measure with powerlock. Use: Stanley (33-425D).

Milk, 2%. One gallon (128 FL oz) of 2% butterfat milk. If store brand cannot be determined, match the lowest priced item to store brand and note in comments. All others, such as national brand, should be matched as a substitute. Use: Store brand.

Mover Driver (Hourly Wage). Local government hourly rate for truck driver light. BLS code 53-3033. Use: BLS wage data.

Newspaper Subscription, Regional. One-year of home delivery of the largest selling daily regional paper (including Sunday edition) distributed in the area. Do not include tip. Fairbanks (Fairbanks Daily News Miner); Anchorage and Juneau (Anchorage Daily News); DC (The Washington Post). Use: Newspaper, home delivery.

Newspaper, Newsstand, National. Price of a USA Today newspaper at a newsstand (in box). Use: USA Today (newsstand).

Newspaper, Newsstand, Regional. Price of a regional newspaper at a newsstand (in box). Fairbanks (Fairbanks Daily News Miner); Anchorage and Juneau (Anchorage Daily News); DC (The Washington Post).Use: Newspaper (Newsstand, regional).

Non-Aspirin Pain Reliever. Sixty tablets of extra-strength acetaminophen. Not caplets or gel caps. If number of tablets differs, note and prorate. Use: Tylenol.

Oranges. Price per pound of loose, large, navel oranges. If only bagged oranges are available, also report the weight of the bag. Note quality in comments. Use: Navel.

Parcel Post to Chicago. Cost to mail a 5 pound package to Chicago using regular mail delivery service. Use: Parcel Post to Chicago.

Parcel Post to Los Angeles. Cost to mail a 5 pound package to Los Angeles using regular mail delivery service. Use: Parcel Post to Los Angeles.

Parcel Post to New York. Cost to mail a 5 pound package to New York using regular mail delivery service. Use: Parcel Post to New York.

Pen. Ten-pack round stick medium point pen. Not crystal or clear type. Use: Paper Mate.

Pet Food. Twenty pound bag of adult dry dog food. Use: Iams Chunks Dog Food.

Piano Lessons. Monthly fee (one lesson per week, half hour beginner private lesson). Price through a music studio if possible. If only 1 hour per week lessons available, prorate. Use: Piano Lessons.

Plant Food. Twenty-four ounce (1.5 lb) container of granulated indoor plant food. Use: Miracle Grow.

Pork Chops Boneless. Price per pound, fresh (not frozen or previously frozen) USDA Choice graded if available. If Choice not available, note USDA grade in comments, Price average size package. Not family-pack, value-pack, super-saver pack, or equivalent. Use: Center Cut.

Portable CD Player: Portable CD player with headphones, with electronic skip protection, CD-R/RW compatible. Use: Sony Walkman (D-E350), Sony D-EJ360.

Potato Chips. Twelve ounce bag of regular potato chips. Use: Lay's 12 oz.

Potatoes. Price per pound of loose potatoes. If only bag potatoes available, report smallest size as substitute and note weight. (Russet is also known as a baking potato or an Idaho potato). Use: Russet Baking.

Prescription Drug 1. Twenty mg of 30 capsules of non-generic Prilosec. Use: Prilosec.

Prescription Drug 2. Two hundred and fifty mg of 30 capsules of generic Amoxicil (survey Amoxicillin). Use: Amoxicillin.

Preserved, Low Sugar. Strawberry preserves, low sugar, 15.5 oz. Use: Smuckers.

Preserves, Sugar Free. Strawberry preserves, sugar free, 12.75 oz. Do not price low sugar jelly or light sugar free jam. Use: Smucker's Light Preserves.

Printer, Color. Color Inkjet printer, 5760 x 720 dpi, 14 ppm black and white, 10 ppm color, USB and parallel connection. USB cable is not included. (Include tax and shipping and handling.) Use: Gateway, Epson Stylus C62.

Red Roses. One dozen long stemmed, fresh cut red roses wrapped in floral paper. Purchased in store; not delivered. Not boxed or arranged in vase. Use: Dozen red roses.

Refrigerator (Side-by-Side). 25.4 cu ft (approximately), side-by-side refrigerator with ice and water dispenser, water filtration system, adjustable glass shelves, crisper, meat pan, up-front temperature controls. Note: Model numbers may vary by dealer. Use: Whirlpool (ED5FTGXKQ).

Rental Data. Rental indexes times 10 averages from hedonic regressions. Use: OPM rental analyses.

Renter Insurance 1. One month of renters insurance (HO-4) coverage for $25,000 of contents. Policy must cover hurricane, earthquake, and other catastrophic damage. Use: National carrier, if available.

Renter Insurance 2. One month of renters insurance (HO-4) coverage for $30,000 of contents. Policy must cover hurricane, earthquake, and other catastrophic damage. Use: National carrier, if available.

Renter Insurance 3. One month of renters insurance (HO-4) coverage for $35,000 of contents. Policy must cover hurricane, earthquake, and other catastrophic damage. Use: National carrier, if available.

Rip Claw Hammer. Twenty ounce, rip claw jacketed graphite hammer. Use: Stanley (51-508).

Round Roast. Price per pound, fresh (not frozen or previously frozen) USDA Choice graded if available. If Choice not available, note USDA grade in comments. Price average size package. Not family-pack, value-pack, super-saver pack, or equivalent. Use: Eye Round Roast.

Round Steak. Price per pound, fresh (not frozen or previously frozen) USDA Choice graded if available. If Choice not available, note USDA grade in comments. Price average size package. Not family-pack, value-pack, super-saver pack, or equivalent. Use: Boneless Top Round.

Salt. Twenty-six ounce box of iodized salt. Use: Morton.

Shampoo. Fifteen ounce bottle for normal hair. Use: VO5.

Sheets. Two hundred and thirty to 250 thread count cotton or cotton polyester blend. Queen size fitted or flat sheet. Not a set. [Changed post survey to Springmaid brand, 300 thread count.] Use: Store brand.

Shop Rate (Chevrolet). Hourly shop rate for a mechanic at a Chevrolet dealership. Use: Chevrolet dealer.

Shop Rate (Ford). Hourly shop rate for a mechanic at a Ford dealership. Use: Ford dealer.

Shop Rate (Honda). Hourly shop rate for a mechanic at a Honda dealership. Use: Honda dealer.

Sirloin Steak. Price per pound, fresh (not frozen or previously frozen) USDA Choice graded if available. If Choice not availalbe, note USDA grade in comments. Price average size package. Not family-pack, value-pack, super-saver pack, or equivalent. Use: Boneles sirloin.

Skiing. Lift ticket for downhill skiing. Day pass for Saturday. (High or Peak season, non-holiday, locally determined). (Changed from extended-day pass, post survey.) Use: Skiing (Lift Ticket).

Sliced Bacon. Sixteen ounce package USDA grade, regular slice. Not Canadian bacon, extra thick sliced, or extra lean. Use: Oscar Mayer.

Snack Cake. One box (10 to a box) cream-filled type cake deserts. Not fresh desserts, individual servings, or larger family-style containers. Use: Hostess Twinkees.

Snow tire (Chevrolet, AK). One snow tire, size (LT245/75R16) for a 2000 Chevrolet Silverado 1500, regular cab, 4WD. Do not include mounting, balancing, or road hazard warranty. Use: Bridgestone Winter Dueler w/UNI/T.

Snowblower. Current year model, two stage, 6.5 HP, 196 CC, 24″ clearing, rubber track driven snowblower with 210 degree adjustable discharge chute. Use: Honda.

Soft Drink. Twelve-pack of cola soda 12 ounce cans. Use: Coca-Cola.

Spaghetti, Dry (National brand). Sixteen ounce box or bag of pasta spaghetti. Use: Barilla.

Stamp. Cost of mailing a one ounce letter first class. Use: First class stamp.

Studded Snow tire (Chevrolet, AK). One snow tire with studs, size (LT245/75R16 load range C or E), for a 2000 Chevrolet Silverado 1500, regular cab, 4WD. Do not include mounting, balancing, or road hazard warranty. Use: Cooper Discoverer M+S.

Studded Snow Tire (Ford, AK). One pre-studded snow tire, size (P235/75R15) for a 2000 Ford Explorer XLT, 4-door. Do not include mounting, balancing, or road hazard warranty. Use: Firestone Winterfire, Cooper Weather-Master S/T.

Studded Snow Tire (Honda, AK). One pre-studded snow tire, size (P185/65R14 service description 85T or 86T) for a 2000 Honda. Do not include mounting, balancing, or road hazard warranty. Use: Firestone Winterfire, Cooper Weather-Master S/T.

Sugar. Fiver pound bag of granulated cane or beet name brand sugar. Do not price superfine, store brand, or generic. Use: National brand (Domino).

Tax Preparation. Flat rate for preparing individual tax Federal 1040 (long form), Schedule A, plus State or local equivalents. (Note: Some areas only have local income taxes.) Note number of forms in comments. Assume typical itemized deductions. If only hourly rate available, obtain estimate of the time necessary to prepare forms, prorate, and report as a substitute. Use: Price at H&R Block-type outlets.

Taxi Fare. Five mile cab fare, one way, from major airport. Include fare for only one passenger with two suitcases. (In DC, use Dulles, BWI and National.) Include applicable taxes and record in comments. Use: Taxi fare.

Telephone Service. Monthly cost for unmeasured touchtone service. Exclude options such as call waiting, call forwarding or fees for equipment rental. Itemize taxes and fees as percent of rates or amounts and add into price. Use: Local phone service.

Television 27″ flat-screen. Twenty-seven inch flat-screen, stereo, color, WEGA TV, with remote. Note: Model numbers may vary by dealer. Use: Sony Trinitron (KV-27FS100).

Tennis Balls. One can of three heavy-duty yellow felt. Not special gas-filled or premium type. Use: Wilson, Penn.

Tire Regular (Chevrolet, DC area & AK Average). One tire, size (LT245/75R16 load range C or E) “original equipment” quality, for a 2000 Chevrolet Silverado 1500 pickup 4x4 regular cab, short box. Do not include mounting, balancing, or road hazard warranty. Use: Goodyear Wrangler RT/S, Bridgestone Dueler A/T w/UNI-T, Cooper Discoverer A/T.

Tire Regular (Ford, DC area & AK Average). One tire, size (P235/75 R15 service description 105S) for the 2000 Ford Explorer XLT, “original equipment” quality, black sidewall. Do not include mounting, balancing, or road hazard warranty. Use: Goodyear Wrangler RT/S, Bridgestone Dueler A/T w/UNI-T, Cooper Discoverer A/T.

Tire Regular (Honda, DC area & AK Average). One tire, size (P185/65 R14 service description 85S) for the 2000 Honda Civic DX, “original equipment” quality, black sidewall. Do not include mounting, balancing, or road hazard warranty. Use: Goodyear Integrity, Bridgestone Potenza RE92, Cooper Lifeliner Classic II.

Tire Regular (Chevrolet, AK). One tire, size (LT245/75 R16 load range C or E) “original equipment” quality, for a 2000 Chevrolet Silverado 1500 pickup 4x4 regular cab, short box. Do not include mounting, balancing, or road hazard warranty. Use: Goodyear Wrangler RT/S, Bridgestone Dueler A/T w/UNI-T, Cooper Discoverer A/T.

Tire Regular (Ford, AK). One tire, size (P235/75 R15 service description 105S) for the 2000 Ford Explorer XLT, “original equipment” quality, black sidewall. Do not include mounting, balancing, or road hazard warranty. Use: Goodyear Wrangler RT/S, Bridgestone Dueler A/T w/UNI-T, Cooper Discoverer A/T.

Tire Regular (Honda, AK). One tire, size (P185/65 R14 service description 85S) for the 2000 Honda Civic DX, “original equipment” quality, black sidewall. Do not include mounting, balancing, or road hazard warranty. Use: Goodyear Integrity, Bridgestone Potenza RE92, Cooper Lifeliner Classic II.

Toilet Tissue. Twelve-count single-roll type. Use: Charmin.

Tomatoes. Price per pound of medium-size tomatoes. If only available in celo pack, note price and weight of average size package. Not organic, ‘hydro’, plum, or extra fancy tomatoes. Note quality in comments. Use: Available brand.

Two-Slice Toaster. Cool-touch exterior, auto shutoff, extra-wide slots, slide-out front access crumb tray, rotary shade selector. Use: Proctor Silex Bagel Smart 22415.

Veterinary Services. Routine annual exam for a small dog (approx. 25 to 30 lbs.) No booster shots, medication, or other extras such as nail clipping, ear cleaning, etc. Use: Vet.

Video Rental. One video tape, 1-day or minimum rental rate for Saturday7 night. Do not price new releases, oldies or classics where price is different from a regular rental. Use: Spiderman, if available.

Wash (Front Load) Single Load. One load, regular size, Front Loading washing machine. Exclude drying. Use: Coin laundry front-load.

Wash, (top load) Single Load. One load, regular size, Top Loading washing machine. Exclude drying. Use: Coin laundry top load.

Washing Machine. 12-cycle super capacity plus washer. Note: Model numbers may vary by dealer. Use: (WBSE3120BW).

Water Bill. Average monthly consumption in gallons and dollars (cost for first __ gallons; cost for over __ gallons), sewage and related charges, and customer service charge. Use: Water bill.

Wedding Band Non-Comfort (Dept). Men's size 10, 14K yellow gold, 5mm plain wedding band. Non-comfort fit. Use: Store brand.

Will Preparation. Hourly Rate to prepare a simple will. Not paralegal. If only flat fate available, record amount and divide by average amount of hours it would take to prepare will. Note is comments. Use: Legal service.

Wine at Home. Chardonnay wine, any vintage, 750 ml. Include liquor tax: Fairbanks 5%, Juneau 3% plus applicable sales tax in price. Use: Turning Leaf.

Wine Away (Casual). One glass of house wine at casual restaurant where meal is also priced. (Check Sales Tax and include in price). Use: House brand.

Wine Away (CH-type). One glass of house white wine at Chart House type restaurant where meal is also priced. (Check Sales Tax and include in price). Use: House wine.

Woman's Athletic Shoe (Dept-1). Woman's walking shoe, soft leather upper. Full-length Phylon midsole with low-pressure Air-Sole units in heel and forefoot. Composition rubber outsole. Use: Reebok Classic.

Woman's Athletic Shoe (Dep-2). Woman's walking shoe. Full-grain leather upper, beveled heel, DMX walk chamber, transition bridge, composition rubber outsole. [Added post survey.] Use: Reebok Walk Platinum DMX.

Woman's Athletic Shoe (Shoe). Woman's walking shoe, soft leather upper. Full-length Phylon midsole with low-pressure Air-Sole units in heel and forefoot. Composition rubber outsole. Use: Reebok Classic.

Woman's Blouse (Polyester). One hundred percent polyester short sleeve, button front blouse with minimum or no trim. Washable. May or may not have shoulder pads. (Laura Scott is at Sears) (Notations is at Macy's and Hecht's) (Liz Baker is at JCPenney). Price regular size. Do not price in Woman's or Plus size. Note brand in comments. Use: Available brand.

Woman's Blue Jeans. Blue jeans. Machine washable, five pocket with zipper fly, loose fit, straight leg or tapered. Price regular size. Do not price in Woman's or Plus size sections. Do not price elastic waist. Use: Lee original relaxed fit.

Woman's Boot. Woman's waterproof insulated boot. 7½ ″shaft. Full grain leather upper, insulation up to −45°F, front zipper for easy on-off. Price regular size. (Include sales tax and shipping handling.) Use: Columbia Bugazip (SC-83-0063).

Woman's Casual Khakis. Woman's casual khakis, any color, flat-front or pleated pant, machine washable. Price regular size. Do not price in Woman's or Plus size sections. Use: Dockers Flat Front, Dockers Pleated.

Woman's Cut and Style. Wash, cut, and styled blow dry for medium length hair. Exclude curling iron if extra. Price hair salons in major department stores and malls. Use: Woman's haircut.

Woman's Dress. Woman's reversible, sleeveless, 100% rayon or rayon blend, long dress, length is past the knee, any print. Price regular size. Do not price in Woman's or Plus size. Use: Sag Harbor.

Woman's Parka. Woman's down Parka, micro-fiber shell, removable natural coyote fur ruff, suede leather piping across chest and back, two-way YKK® zipper, button storm flap, two cargo pockets, zippered internal pocket, drawstring waist and adjustable cuffs. Price regular sizes, not tall. (Include sales tax and shipping and handling.) Use: Fairbanks Parka (SC-91-1577).

Woman's Pump Shoes. Plain pump (not open toed or open back style), tapered approx. 2″ heel matches shoe (not stacked/wooden type), leather uppers, the remaining parts are man-made materials. No extra ornamentation, extra thick heels, and wedge-type heel. Do not price leather sole shoe. (I Love Comfort, Allure, Caressa, 9.2.5 are known brands.) Use: Store brand.

Woman's Sweater. Short sleeve sweater, no buttons or collar. 100% cotton or cotton blend. Price regular size. Do not price in Woman's or Plus size. Use: Sag Harbor.

Woman's Wallet. Clutch/checkbook style wallet. Split-grain, cowhide leather. Not eel skin, snake skin or other varieties. Use: Buxton, Mundi.

Appendix 4—COLA Rental Survey Data Collection Elements

Data element | Description of data
Comparable identification code* | A five character code that is unique to each comparable and structured as follows: Position 1 is the letter corresponding to the area in which the comparable is located, i.e., A, B, C, or D. Position 2 is the letter corresponding to the location as identified in which the comparable is located. Position 3 is the letter corresponding to the class of housing shown in Section A.3.5.1. Positions 4 and 5 is a sequence number 01 through 99 that identifies the order in which that comparable was collected relative to other comparables of the same class in the same location and area.
Comparable's address* | Complete location address of the comparable, including ZIP code, NOT Post Office Box, and name of multi-family complex (as applicable).
How initially identified* | Internet, broker, drive-by, newspaper, published rental listing (e.g., as often found in supermarkets), other.
Person providing information, if applicable | Name and title of person providing information about the comparable. Examples of title: agent, landlord, tenant.
Address, etc. of person providing information | Complete mailing address, phone number(s), and email address, as appropriate, of person providing information about the comparable.
Community name, if applicable | Name of community in which comparable is located.
Year built | Year built or year of last remodeling affecting 50% or more of the structure.
Finished space* | Total sq. ft. of finished space (i.e., living-area).
Basement* | Yes/no.
Bedrooms* | Number of bedrooms.
Bathrooms* | Number of bathrooms (½ bath is toilet and sink; full bath is toilet, sink, shower, and/or tub).
Arctic entrance* | Yes/no.
Balcony* | Covered, uncovered, none.
Deck* | Covered, uncovered, none.
Patio* | Covered, uncovered, none.
External condition* | Excellent, good, poor. Excellent condition means the unit is new or like new condition (e.g., recently remodeled, refurbished, or restored). Good condition means the unit shows signs of age but is in good repair (e.g., the paint is not peeling, there are no broken windows, sagging fences, or missing gutters; the yard is maintained; and there are no disabled cars, appliances, or other trash around the property). Poor condition means the unit is habitable but needs repair and the property needs maintenance and/or trash removal.
Neighborhood condition* | Desirable, average, undesirable. A desirable neighborhood generally has homes in excellent or good condition. Commercial services are separate (e.g., clustered in strip malls or business parks). There are many parks and/or open public spaces. Roads and parks are well-maintained and clean. Other public services, including schools, are believed to be good; and the crime rate is perceived to be low. An average neighborhood generally has homes in good condition with a balance of homes in excellent and poor condition. Commercial services are separate. Roads and parks are in good condition but may need cleaning or maintenance. Other public services are perceived to be acceptable but not exceptional. An undesirable neighborhood generally has homes in poor condition. Commercial units may be intermingled with residential units. Roads are often crowded and/or poorly maintained and have litter. There are few parks and those are also poorly maintained. Other public services are believed to be marginal; and crime rate is perceived to be high.
Heating fuel.* | Primary heating fuel (e.g., electricity, natural gas, propane, fuel oil, wood, other).
Central air conditioning.* | Yes/no. Central air is a ducted system designed to cool all or essentially all of a house or apartment.
Multi-room air conditioning* | Yes/no. If yes and if available, report number of multi-room units. Multi-room air conditioning is a non-window unit designed to cool more than one room but not all of a house or apartment.
Window air conditioning* | Yes/no. If yes and if available, report number of window-type air conditioning units.
Exterior construction* | Exterior construction materials (e.g., brick, stone, cement, block, wood, metal, or vinyl siding).
Garage* | Triple (or more), double, single, non. Heated: Yes/no.
Carport* | Yes/no.
Reserved parking | Yes/no.
Security* | Gated community, guard, alarm system, none.
Type of unit* | Type of unit.
End Unit Townhouse* | Yes/No (two attached single family homes would be answered as No).
Lot size* | Approximate square footage (detached single family units only).
Furnishings provided by landlord* | Yes/no.
Appliances provided by landlord* | Yes/no. If yes and information is available, report if refrigerator, range, oven, dishwasher, clothes washer, clothes dryer, and/or freezer provided.
Services paid by landlord* | Water, sewer (includes septic), garbage collection, lawn care, cable television, satellite dish, electricity, heating fuel, firewood, snow removal.
Water source | Public, well, cistern, none.
Sewer | Public, septic, none.
Fireplace | Yes/no.
Paved road* | Yes/no.
Sidewalks | Yes/no.
Streetlights* | Yes/no.
Complementary recreation facilities* | Yes/no. If yes, note complementary (i.e., free) swimming pools, club houses, tennis courts, or other significant recreational facilities available.
Pets | Yes/no. Yes, if dogs, cats, or both allowed; else no.
Exceptional view* | Yes/no. A view of a park, ocean, mountain, valley, golf course, etc., that is unusually beautiful for the area and may increase the rental value of the property. [Note: Properties with direct access to such an amenity are not comparable and must not be surveyed.]
Vacant | Yes/no. If vacant and if known, report how unit long has been on market.
Rent* | Rental or lease amount per month.
Date of listing* | Date associated with rental rate reported above.
Other fees and charges.* | Additional periodic fees or charges that the tenant pays, e.g., parking fees, condo fees, pet fees. Do not include deposits, first/last month's rent, utilities, tenant's insurance, or discretionary fees (e.g., cable TV, community pool membership).
Comment | Additional information that helps clarify above data elements as they apply to the comparable.
*Required.

BILLING CODE 6325-39-M

[FR Doc. 04-5428 Filed 3-12-04; 8:45 am]

BILLING CODE 6325-39-C